DEPARTMENT OF ENERGY

Federal Energy Regulatory Commission

Notice of Effectiveness of Exempt Wholesale Generator and Foreign Utility Company Status

Story County Wind, LLC | EG19-118-000
Ashtabula Wind I, LLC | EG19-119-000
Quitman Solar, LLC | EG19-120-000
Dougherty County Solar, LLC | EG19-121-000
Talen Montana, LLC | EG19-122-000
Burke Wind, LLC | EG19-123-000
Skeleton Creek Wind, LLC | EG19-124-000
Palmas Wind, LLC | EG19-125-000
Emmons-Logan Wind, LLC | EG19-126-000
West Columbia Storage LLC | EG19-127-000
Wessington Springs Wind, LLC | EG19-129-000
PSEG Keys Energy Center LLC | EG19-131-000
PSEG Fossil Sewaren Urban Renewal LLC | EG19-132-000
Cubico Palmetto Lessee, LLC | EG19-133-000
Palmetto Plains Solar Project, LLC | EG19-134-000
Pretty Prairie Wind, LLC | EG19-135-000
Crowned Ridge Wind, LLC | EG19-136-000
Crowned Ridge Wind II, LLC | EG19-137-000
RE Rambler LLC | EG19-138-000
Polaris Wind Energy, LLC | EG19-140-000
SRI Meridian III, LLC | EG19-141-000
Mesquite Star Special, LLC | EG19-142-000
Hancock County Wind, LLC | EG19-143-000
Stanton Energy Reliability Center, LLC | EG19-144-000
Coolberrin Wind Limited | FC19-5-000
Chenya Power Co., Ltd | FC19-6-000

Take notice that during the month of August 2019, the status of the above-captioned entities as Exempt Wholesale Generators or Foreign Utility Companies became effective by operation of the Commission's regulations. 18 CFR 366.7(a) (2019).

Dated: September 13, 2019.
Kimberly D. Bose,
Secretary.

[FR Doc. 2019-20258 Filed 9-18-19; 8:45 am]

BILLING CODE 6717-01-P